DEPARTMENT OF COMMERCE

Foreign-Trade Zones Board

[B-70-2013]

Subzone 183B; Authorization of Production Activity; Samsung Austin Semiconductor, LLC (Semiconductors); Austin, Texas

On June 26, 2013, Samsung Austin Semiconductor, LLC submitted a notification of proposed export production activity to the Foreign-Trade Zones (FTZ) Board for its facility within Subzone 183B, in Austin, Texas.

The notification was processed in accordance with the regulations of the FTZ Board (15 CFR part 400), including notice in the Federal Register inviting public comment (78 FR 40427, 7-5-2013). The FTZ Board has determined that no further review of the activity is warranted at this time. The production activity described in the notification is authorized, subject to the FTZ Act and the Board's regulations, including Section 400.14.

Dated: November 12, 2013.
Andrew McGilvray,
Executive Secretary.

[FR Doc. 2013-27437 Filed 11-14-13; 8:45 am]

BILLING CODE 3510-DS-P